INTERNATIONAL TRADE COMMISSION

[Investigation No. 731-TA-860 (Third Review)]

Tin- and Chromium-Coated Steel Sheet From Japan

AGENCY: United States International Trade Commission.

ACTION: Notice of revised schedule for full five-year review.

DATES: November 7, 2017.

FOR FURTHER INFORMATION CONTACT: Robert Casanova (202-708-2719), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this review may be viewed on the Commission's electronic docket (EDIS) at https://edis.usitc.gov.

SUPPLEMENTARY INFORMATION: On October 20, 2017, the Commission established a schedule for the conduct of this full five-year review (82 FR 49661, October 26, 2017). The Commission is revising its schedule.

The Commission's new schedule for the review is as follows: The prehearing conference (if needed) will be held on February 26, 2018; the hearing will be held at the U.S. International Trade Commission Building at 9:30 a.m. on February 27, 2018; and the deadline for filing posthearing briefs is March 7, 2018.

For further information concerning this review see the Commission's notice cited above and the Commission's Rules of Practice and Procedure, part 201, subparts A through E (19 CFR part 201), and part 207, subparts A, D, E, and F (19 CFR part 207).

Authority: This review is being conducted under authority of title VII of the Tariff Act of 1930; this notice is published pursuant to section 207.62 of the Commission's rules.

By order of the Commission.
Issued: November 14, 2017.
William R. Bishop,
Supervisory Hearings and Information Officer.

[FR Doc. 2017-24980 Filed 11-16-17; 8:45 am]

BILLING CODE 7020-02-P